DEPARTMENT OF ENERGY

Agency Information Collection Under Review by the Office of Management and Budget

AGENCY: Department of Energy.

ACTION: Submission for OMB review; comment request.

SUMMARY: The Department of Energy (DOE) has submitted a renewal for an additional three years for the information collection listed at the end of this notice to the Office of Management and Budget (OMB) for review under sections 3507(h)(1) and 3506(c) of the paperwork Reduction Act of 1995 (Pub. L. 104-13).

The entry contains the following information: (1) The collection number and title; (2) a summary of the collection of information, type of request (extension), response obligation (required to certify compliance); (3) a description of the need and use of the information; (4) a description of the likely respondents; and (5) an estimate of the total annual reporting burden (i.e., the estimated number of likely respondents times the frequency of response times the average hours per response).

DATES: Comments must be filed on or before May 2, 2001. If you anticipate that you will be submitting comments but find it difficult to do so within the time allowed by this notice, you should advise the OMB DOE Desk Officer listed below of your intention to do so as soon as possible. The OMB Desk Officer may be telephoned at (202) 395-7318. (Also, please notify the DOE contact listed below.)

ADDRESSES: Address comments to the Department of Energy Desk Officer, Office of Information and Regulatory Affairs, Office of Management and Budget, 725 17th Street, NW, Washington, DC 20503. (Comments should also be addressed to the Records Management Division, Office of the Chief Information Officer, at the address below.)

FOR FURTHER INFORMATION CONTACT: Requests for additional information should be directed to Susan L. Frey, Director, Records Management Division, Office of Records and Business Management (SO-312), U.S. Department of Energy, Germantown, MD 20874-1290. Ms. Frey can be contacted by telephone at (301) 903-3666, or e-mail at Susan.Frey@hq.doe.gov

SUPPLEMENTARY INFORMATION: The information collection submitted to OMB for review was: Current OMB No.: 1910-5104. Package Title: 10 CFR Part 431—Energy Efficiency (Energy Conservation Program for Certain Commercial and Industrial Equipment) and Part C of the Energy Policy and Conservation Act (Public Law 94-163) (EPCA), and amendments thereto. Purpose: The Compliance Certification set forth in appendix A to subpart G of 10 CFR 431 provides a format for a manufacturer or private labeler to certify compliance with the energy efficiency standards prescribed at section 342(b)(1) of EPCA, 42 U.S.C. 6313(b)(1), through an independent testing or certification program nationally recognized in the United States (EPCA 345(c), 42 U.S.C. 6316(c)). Compliance Certification information is used by the Department of Energy and United States Customs Service officials, and facilitates voluntary compliance with and enforcement of the energy efficiency standards established for electric motors under EPCA sections 342(b)(1), 42 U.S.C. 6313(b)(1). Type of Respondents: Manufacturers or private labelers of certain 1 through 200 horsepower electric motors. Estimated Number of Burden Hours: 200-300 reporting/record-keeping hours per year per manufacturer or private labeler.

Statutory Authority: Sections 3507(h)(1) of the Paperwork Reduction Act of 1995 (Pub. L. No. 104-13).

Issued in Washington DC, March 22, 2001.
Susan L. Frey,
Director, Records Management Division, Office of Records and Business Management, Office of the Chief Information Officer, Office of Security and Emergency Operations.

[FR Doc. 01-8001 Filed 3-30-01; 8:45 am]

BILLING CODE 6450-01-P